DEPARTMENT OF COMMERCE

International Trade Administration

[A-570-846]

Brake Rotors From the People's Republic of China: Final Results of the Eighth New Shipper Review

AGENCY: Import Administration, International Trade Administration, Department of Commerce.

ACTION: Notice of final results of the eighth new shipper review.

SUMMARY: On June 3, 2003, the Department of Commerce published the preliminary results of the eighth new shipper review of the antidumping duty order on brake rotors from the People's Republic of China with respect to Xiangfen Hengtai Brake System Co., Ltd and Xianghe Xumingyuan Auto Parts Co., Ltd. (collectively referred to as the respondents). The period of review is April 1, 2002, through September 30, 2002. We gave interested parties an opportunity to comment on our preliminary results. However, no interested party submitted comments.

The final results do not differ from the preliminary results. The final weighted-average dumping margins for the reviewed firms are listed below in the section entitled “Final Results of Review.”

EFFECTIVE DATE: August 21, 2003.

FOR FURTHER INFORMATION CONTACT: Terre Keaton or Margarita Panayi, Import Administration, International Trade Administration, U.S. Department of Commerce, Washington, D.C. 20230; telephone: (202) 482-1280, or (202) 482-0049, respectively.

SUPPLEMENTARY INFORMATION:

Background

On June 3, 2003, the Department published in the Federal Register the preliminary results of this new shipper review (see Brake Rotors from the People's Republic of China: Preliminary Results of the Eighth New Shipper Review, 68 FR 33095 (June 3, 2003)(“Preliminary Results”)). We provided parties the opportunity to comment on the preliminary results of the review. However, no interested party submitted comments.

The Department has conducted this review in accordance with section 751(a)(2)(B) of the Tariff Act of 1930, as amended, (“the Act”).

Scope of Order

The products covered by this order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (“OEM”) which produces vehicles sold in the United States (e.g., General Motors, Ford, Chrysler, Honda, Toyota, Volvo). Brake rotors covered in this order are not certified by OEM producers of vehicles sold in the United States. The scope also includes composite brake rotors that are made of gray cast iron, which contain a steel plate, but otherwise meet the above criteria. Excluded from the scope of this order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are classifiable under subheading 8708.39.5010 of the Harmonized Tariff Schedule of the United States (“HTSUS”). Although the HTSUS subheading is provided for convenience and customs purposes, our written description of the scope of this order is dispositive.

Final Results of Review

For the reasons discussed in our Preliminary Results, we determine that the following weighted-average margin percentages exist for the following companies during the period April 1, 2002, through September 30, 2002:

Manufacturer/producer/­exporter | Margin ­Percent
Xiangfen Hengtai Brake ­System Co., Ltd | 0.00
Xianghe Xumingyuan Auto Parts Co., Ltd | 0.00

Assessment Rates

The Department shall determine, and the U.S. Bureau of Customs and Border Protection (“BCBP”) shall assess, antidumping duties on all appropriate entries. The Department will issue appropriate assessment instructions directly to the BCBP within 15 days of publication of the final results of this review. For assessment purposes, we do not have the actual entered value for either respondent for which we calculated a margin because it is not the importer of record for the subject merchandise. Therefore, we calculated individual importer- or customer-specific assessment rates by aggregating the dumping margins calculated for all of the U.S. sales examined and dividing that amount by the total quantity of the sales examined. To determine whether the duty assessment rates are de minimis (i.e., at or above 0.50 percent), in accordance with the requirement set forth in 19 CFR 351.106(c)(2), we have calculated importer- or customer-specific ad valorem ratios based on export prices. We will instruct the BCBP to assess antidumping duties on all appropriate entries covered by this review if any importer or customer-specific assessment rate calculated is above de minimis.

Cash Deposit Requirements

Bonding will no longer be permitted to fulfill security requirements for shipments from Xiangfen Hengtai Brake System Co., Ltd (Hengtai) or Xianghe Xumingyuan Auto Parts Co., Ltd (Xumingyuan) of brake rotors from the PRC entered, or withdrawn from warehouse, for consumption on or after the publication date of the final results of this new shipper review.

The following deposit rates shall be required for merchandise subject to the order entered, or withdrawn from warehouse, for consumption on or after the publication date of these final results, as provided by section 751(a)(1) and (a)(2)(B) of the Act: (1) the cash deposit rate for Hengtai (i.e., for subject merchandise manufactured and exported by Hengtai) and Xumingyuan (i.e., for subject merchandise manufactured and exported by Xumingyuan) will be the rate indicated above; (2) the cash deposit rate for PRC exporters who received a separate rate in a prior segment of the proceeding will continue to be the rate assigned in that segment of the proceeding; (3) the cash deposit rate for the PRC NME entity and for subject merchandise exported by either Hengtai or Xumingyuan but not manufactured by them will continue to be the PRC-wide rate (i.e., 43.32 percent); and (4) the cash deposit rate for non-PRC exporters of subject merchandise from the PRC will be the rate applicable to the PRC exporter that supplied that exporter. These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APO”) of their responsibility concerning the return or destruction of proprietary information disclosed under APO in accordance with 19 CFR 351.3059(a)(3). Timely written notification of the return/destruction of APO materials or conversion to judicial protective order is hereby requested. Failure to comply with the regulations and terms of an APO is a violation which is subject to sanction.

We are issuing and publishing this determination and notice in accordance with sections 751(a)(2)(B) and 777(i) of the Act and 19 CFR 351.214.

Dated: August 15, 2003.
Jeffrey May,
Acting Assistant Secretary for Import Administration.

[FR Doc. 03-21446 Filed 8-20-03; 8:45 am]

BILLING CODE 3510-DS-S